DEPARTMENT OF COMMERCE

National Oceanic and Atmospheric Administration

RIN 0648-XC576

Endangered Species; File No. 17787

AGENCY: National Marine Fisheries Service (NMFS), National Oceanic and Atmospheric Administration (NOAA), Commerce.

ACTION: Issuance of permit.

SUMMARY: Notice is hereby given that NMFS Southeast Fisheries Center (SEFSC) (hereinafter “Permit Holder”); 75 Virginia Beach Drive, Miami, FL 33149 [Responsible Party: Bonnie Ponwith, Ph.D.], has been issued a permit to take smalltooth sawfish (Pristis pectinata) in Florida waters for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

FOR FURTHER INFORMATION CONTACT: Malcolm Mohead, (301) 427-8401.

SUPPLEMENTARY INFORMATION: On March 21, 2013, notice was published in the Federal Register (78 FR 17355) that a scientific research permit to take smalltooth sawfish had been submitted by the above-named organization. The requested permit has been issued under the authority of the Endangered Species Act of 1973, as amended (ESA; 16 U.S.C. 1531 et seq.) and the regulations governing the taking, importing, and exporting of endangered and threatened species (50 CFR parts 222-226).

The primary objective of the permit will be to gather life history information on smalltooth sawfish. The purpose of the research is to investigate the movements and habitat use of smalltooth sawfish in Florida waters, primarily in the region of the Florida coast from Naples to Key West, encompassing the Ten Thousand Islands. Up to 100 neonate and 20 large juvenile and adult sawfish are authorized to be captured annually by longline, gillnet, seine net, and recreational angling gear. All captured sawfish are to be measured, tagged, sampled, and released. Tagging methods will include dart tags, passive integrated transponder tags, and external satellite tags (e.g., Smart Position Only Transmitting tags, Pop-Up Archival Transmitting tags) and internal acoustic tags. Tissue and blood samples will also be taken. Up to 20 dead sawfish acquired through strandings, or from law enforcement confiscations, would also be sampled for scientific purposes. The permit is valid for 5 years from the date of issuance.

Issuance of this permit, as required by the ESA, was based on a finding that such permit (1) Was applied for in good faith, (2) Will not operate to the disadvantage of such endangered or threatened species, and (3) Is consistent with the purposes and policies set forth in section 2 of the ESA.

Dated: February 24, 2014.
Perry F. Gayaldo,
Acting Deputy Director, Office of Protected Resources, National Marine Fisheries Service.

[FR Doc. 2014-04466 Filed 2-27-14; 8:45 am]

BILLING CODE 3510-22-P